DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION.

DATES: The Aquatic Nuisance Species Task Force will meet from 8:30 a.m. to 5:00 p.m., Tuesday, November 28, 2000 and 8:30 a.m. to 12:30 p.m., Wednesday, November 29, 2000.

ADDRESSES: The ANS Task Force meeting will be held at the Arlington Hilton and Towers, 950 Stafford Street, Arlington, Virginia.

FOR FURTHER INFORMATION CONTACT: Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting on Tuesday and Wednesday include: updates of activities from the Task Force's regional panels; a discussion on improving the coordination with the regional panels; a discussion of the ballast water management program; an overview of the activities of the Invasive Species Council and Invasive species Advisory Committee; updates from several Task Force sub-committees including the Communications, Education and Outreach Committee and the Risk Assessment committee; and other topics. Minutes of the meeting will be maintained by the Executive Secretary, Aquatic Nuisance Species Task Force, Suite 851, 4401 North Fairfax Drive, Arlington, Virginia 22203-1622, and will be available for public inspection during regular business hours, Monday through Friday.

Dated: November 8, 2000.
Cathleen I. Short,
Aquatic Nuisance Species Task Force, Assistant Director—Fisheries and Habitat Conservation.

[FR Doc. 00-29074 Filed 11-13-00; 8:45 am]

BILLING CODE 4310-55-M